DEPARTMENT OF HEALTH AND HUMAN SERVICES

Administration for Community Living

Intent To Award a Single-Source Supplement for the National Association of Area Agencies on Aging

AGENCY: Community Living Administration, Department of Health and Human Services.

ACTION: Announcing the intent to award a single-source supplement for the National Association of Area Agencies on Aging for the Eldercare Locator cooperative agreement.

SUMMARY: The Administration for Community Living (ACL) announces the intent to award a single-source supplement to the current cooperative agreement held by the National Area Agencies on Aging for the Eldercare Locator. Older adults are at greater risk of requiring hospitalization or dying if diagnosed with COVID-19, therefore ensuring that this population is vaccinated in an imperative. In addition, we recognize that the COVID-19 pandemic has birthed many challenges for people with disabilities and linking this population to vaccination resources is also critically important. The purpose of this project is to increase the capacity of the current Eldercare Locator call center to assist additional older adults in obtaining information and linkages to state and local organizations for the purpose of obtaining COVID-19 vaccines. In addition, utilizing the Eldercare Locator platform to develop a call center to assist people with disabilities with state and local resources to obtain links to vaccines and community resources.

Program Name: The Eldercare Locator.

Recipient: The National Association of Area Agencies on Aging.

Period of Performance: The supplement award will be issued for the third year of the five-year project period of June 1, 2018, through May 31, 2023.

Total Award Amount: $5,140,000 FY 2021.

Award Type: Cooperative Agreement Supplement.

Statutory Authority: This program is authorized under Section 202 of the Older Americans Act.

Basis for Award: The National Association of Area Agencies on Aging is currently funded to carry out the objectives of this program, entitled The Eldercare Locator. Older adults and their caregivers face a complicated array of decisions regarding home and community-based services. For almost 30 years, the Eldercare Locator has helped older adults and their families navigate this complex environment by connecting those needing assistance with State and local agencies on aging that serve older adults and their caregivers. The Eldercare Locator serves approximately 450,000 people a year through the call center. To ensure that the needs of those who contact the Eldercare Locator are carefully matched with the appropriate resources, information specialists are trained to listen closely to callers, identify relevant local, state and/or national resources and, when needed, provide a transfer to a particular resource.

As a trusted national resource, the supplement to the Eldercare Locator will be used to expand the capacity of the service to link a larger number of older adults and their caregivers seeking COVID-19 vaccines with local organizations that can assist in making the appropriate connections and appointments. With the supplemental funding, ACL will fund the expansion of the Eldercare Locator Call Center to support an increase of 500,000 calls from older adults and their caregivers. In addition, the Call Center will utilize and maintain a list of trusted resources, such as the CDC Vaccine Finder, to assist callers in making appropriate local COVID-19 vaccine connections.

Some people with disabilities might be at a higher risk of COVID-19 infection or severe illness because of their underlying medical conditions. Having to sift through countless websites and make multiple phone calls to gain education and access to vaccine resources is a significant issue. Having a one-stop call center quickly set-up to provide accurate and up-to-date state and local specific information and referrals regarding COVID-19 vaccines and information regarding local community resources for people with disabilities it critically needed. Using the established Eldercare Locator infrastructure, this supplement will be used for the rapid development of a call center to assist people with disabilities to make appropriate state and local linkages to COVID-19 vaccines and other resources. The grantee, working with appropriate national disability organizations, will establish a call center with a dedicated line and trained information specialists to serve approximately 500,000 people with disabilities.

For More Information Contact: For further information or comments regarding this program supplement, contact Sherri Clark, U.S. Department of Health and Human Services, Administration for Community Living, Administration on Aging (202)-795-7327; email Sherri.Clark@acl.hhs.gov.

Dated: March 31, 2021.
Alison Barkoff,
Administrator and Assistant Secretary for Aging.

[FR Doc. 2021-06999 Filed 4-5-21; 8:45 am]

BILLING CODE 4154-01-P